DEPARTMENT OF THE TREASURY

Senior Executive Service; Departmental Offices Performance Review Board

AGENCY: Treasury Department.

ACTION: Notice of members of the Departmental Offices Performances Review Board.

SUMMARY: Pursuant to 5 U.S.C. 4314(c)(4), this notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

Composition of Departmental Offices PRB: The Board shall consist of at least three members. In the case of an appraisal of a career appointee, more than half the members shall consist of career appointees. The names and titles of the Board members are as follows:

Carfine, Kenneth E., Fiscal Assistant Secretary

Duffy, Michael D., Deputy Assistant Secretary/Chief Information Officer

Foster, Wesley T., Deputy Assistant Secretary (Management and Budget)

Fuller, Reese H., Advanced Counterfeit Deterrence Program Director.

Gerardi, Geraldine A., Director for Business and International Taxation

Glaser, Daniel L., Deputy Assistant Secretary (Terrorist Financing and Financial Crimes)

Granat, Rochelle F., Deputy Assistant Secretary for Human Resources and Chief Human Capital Officer

Daly, Nova James, Deputy Assistant Secretary (Investment Security)

Dick, Denise, White House Liaison

Grippo, Gary E., Deputy Assistant Secretary (Fiscal Operations and Policy)

Hammerle, Barbara C., Deputy Director, Office of Foreign Assets Control

Hampl, Eric E., Director, Executive Office of Asset Forfeiture

Hastings, Charles R., Deputy Chief Human Capital Officer

Jaskowiak, Mark M., Director, Office of Specialized Development

Larue, Pamela J., Departmental Budget Director

Lee, Nancy, Deputy Assistant Secretary (Eurasia and Middle East)

Mathiasen, Karen V., Director, Office of Financial Reconstruction and Stabilization

McDonald, William L., Deputy Assistant Secretary (Technical Assistance Policy)

McLaughlin, Brookly, Deputy Assistant Secretary (Public Affairs)

Mendelsohn, Howard S., Deputy Assistant Secretary (Intelligence & Analysis)

Norton, Jeremiah O., Deputy Assistant Secretary (Financial Institutions and Government Sponsored Enterprise Policy)

Ostrowski, Nancy, Director, Office of D.C. Pensions

Skud, Timothy E., Deputy Assistant Secretary (Tax, Trade and Tariff Policy)

Smith, Taiya, Deputy Chief of Staff and Executive Secretary

Sobel, Mark D., Deputy Assistant Secretary (International Monetary and Financial Policy)

Szubin, Adam J., Director, Office of Foreign Assets Control

Tvardek, Steven F., Director, Office of Trade Finance

Warren, Mark E., Deputy Assistant Secretary for Legislative Affairs (Tax and Budget)

Warthin, Thomas W., Director, Office of Financial Services Negotiations

Wilkinson, James R., Chief of Staff

Worth, John D., Director, Office of Microeconomic Analysis

DATES: Effective Date: Membership is effective on the date of this notice.

FOR FURTHER INFORMATION CONTACT: Christine Nalli, Supervisory Human Resources Specialist, 1500 Pennsylvania Avenue, NW., ATTN: National Press Building, Room 200, Washington, DC 20220, Telephone: 202-622-1105.

This notice does not meet the Department's criteria for significant regulations.

Dated: September 9, 2008.
Rhonda Coachman-Steward,
Director, Office of Human Resources.

[FR Doc. E8-21658 Filed 9-16-08; 8:45 am]

BILLING CODE 4811-42-P